FEDERAL DEPOSIT INSURANCE CORPORATION

Agency Information Collection Activities: Proposed Collection Renewal; Comment Request (OMB No. 3064-0153)

AGENCY: Federal Deposit Insurance Corporation (FDIC).

ACTION: Notice and request for comment.

SUMMARY: The FDIC, as part of its ongoing obligations under the Paperwork Reduction Act of 1995, invites the general public and other Federal agencies to take this opportunity to comment on the renewal of the existing information collection described below (OMB No. 3064-0153).

DATES: Comments must be submitted on or before September 28, 2020.

ADDRESSES: Interested parties are invited to submit written comments to the FDIC by any of the following methods:

• https://www.FDIC.gov/regulations/laws/federal.

• Email: comments@fdic.gov. Include the name and number of the collection in the subject line of the message.

• Mail: Jennifer Jones (202-898-6768), Counsel, MB-3078, Federal Deposit Insurance Corporation, 550 17th Street NW, Washington, DC 20429.

• Hand Delivery: Comments may be hand-delivered to the guard station at the rear of the 17th Street Building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Jennifer Jones, Counsel, 202-898-6768, jennjones@fdic.gov, MB-3105, Federal Deposit Insurance Corporation, 550 17th Street NW, Washington, DC 20429.

SUPPLEMENTARY INFORMATION: Proposal to renew the following currently approved collection of information:

1. Title: Regulatory Capital Rules.

OMB Number: 3064-0153.

Affected Public: Insured state nonmember banks and state savings associations.

Burden Estimate:

Estimated Hourly Burden
| Type of burden | Estimated number of respondents | Estimated time per response | Frequency of response | Total annual estimated burden
BASEL III Advanced Approaches: Recordkeeping, Disclosure, and Reporting
Implementation plan—Section _.121(b): Ongoing | Recordkeeping | 1 | 330 | On Occasion | 330
Documentation of advanced systems—Section _.122(j): Ongoing | Recordkeeping | 1 | 19 | On Occasion | 19
Systems maintenance—Sections _.122(a), _123(a), _.124(a): Ongoing | Recordkeeping | 1 | 27.90 | On Occasion | 28
Supervisory approvals—Sections_.122(d)-(h), _.132(b)(3), _.132(d)(1), _.132(d)(1)(iii): Ongoing | Recordkeeping | 1 | 16.82 | On Occasion | 17
Control, oversight and verification of systems—Sections _.122 to _.124: Ongoing | Recordkeeping | 1 | 11.05 | On Occasion | 11
(CCR)—Section _.132(b)(2)(iii)(A): One-time | Recordkeeping | 1 | 80 | On Occasion | 80
(CCR)—Section _.132(b)(2)(iii)(A): Ongoing | Recordkeeping | 1 | 16 | On Occasion | 16
(CCR)—Section _.132(d)(2)(iv): One-time | Recordkeeping | 1 | 80 | On Occasion | 80
(CCR)—Section _.132(d)(2)(iv): Ongoing | Recordkeeping | 1 | 40 | On Occasion | 40
(CCR)—Section _.132(d)(3)(vi): One-time | Recordkeeping | 1 | 80 | On Occasion | 80
(CCR)—Section _.132(d)(3)(viii): One-time | Recordkeeping | 1 | 80 | On Occasion | 80
(CCR)—Section _.132(d)(3)(viii) Ongoing | Recordkeeping | 1 | 10 | Quarterly | 40
(CCR)—Section _.132(d)(3)(ix): One-time | Recordkeeping | 1 | 40 | On Occasion | 40
(CCR)—Section _.132(d)(3)(ix): Ongoing | Recordkeeping | 1 | 40 | On Occasion | 40
(CCR)—Section _.132(d)(3)(x): One-time | Recordkeeping | 1 | 20 | On Occasion | 20
(CCR)—Section _.132(d)(3)(xi): One-time | Recordkeeping | 1 | 40 | On Occasion | 40
(CCR)—Section _.132(d)(3)(xi): Ongoing | Recordkeeping | 1 | 40 | On Occasion | 40
(OC)—Section _.141(b)(3), _.141(c)(1), _.141(c)(2)(i)-(ii), _.153: One-time | Recordkeeping | 1 | 40 | On Occasion | 40
(OC)—Section _.141(c)(2)(i)-(ii): Ongoing | Recordkeeping | 1 | 10 | Quarterly | 40
Sections _.142 and _.171: Ongoing | Disclosure | 1 | 5.78 | On Occasion | 6
(CCB and CCYB)—Section _.173, Table 4 (Securitization)—Section _.173, Table 9 (IRR)—Section _.173, Table 12: Ongoing | Disclosure | 1 | 25 | Quarterly | 100
(CCB and CCYB)—Section _.173, Table 4 (Securitization)—Section _.173, Table 9 (IRR)—Section _.173, Table 12: One-time | Disclosure | 1 | 200 | On Occasion | 200
(Capital Structure)—Section _.173, Table 2: Ongoing | Disclosure | 1 | 2 | Quarterly | 8
(Capital Structure)—Section _.173, Table 2: One-time | Disclosure | 1 | 16 | On Occasion | 16
(Capital Adequacy)—Section _.173, Table 3: Ongoing | Disclosure | 1 | 2 | Quarterly | 8
(Capital Adequacy)—Section _.173, Table 3: One-time | Disclosure | 1 | 16 | On Occasion | 16
(CR) —Section _.173, Table 5: Ongoing | Disclosure | 1 | 12 | Quarterly | 48
(CR)—Section _.173, Table 5: One-time | Disclosure | 1 | 96 | On Occasion | 96
Section _.304—Opt-In Relief and Related FDIC Approval: Ongoing | Reporting | 7 | 12 | On Occasion | 84
Subtotal: One-time Recordkeeping and Disclosure |  |  |  |  | 788
Subtotal: Ongoing Recordkeeping, Disclosure, and Reporting |  |  |  |  | 875
Total Recordkeeping, Disclosure, and Reporting |  |  |  |  | 1,663
Minimum Regulatory Capital Ratios: Recordkeeping
(CCR Operational Requirements)—Sections _.3(d) and_.22(h)(2)(iii)(A): Ongoing | Recordkeeping | 3,489 | 16 | On Occasion | 55,824
Subtotal: One-time Recordkeeping |  |  |  |  | 0
Subtotal: Ongoing Recordkeeping |  |  |  |  | 55,824
Total Recordkeeping |  |  |  |  | 55,824
Standardized Approach: Recordkeeping and Disclosure
(QCCP)—Section _.35(b)(3)(i)(A): One-time | Recordkeeping | 1 | 2 | On Occasion | 2
(QCCP)—Section _.35(b)(3)(i)(A): Ongoing | Recordkeeping | 3,489 | 2 | On Occasion | 6,978
(CT)—Section _.37(c)(4)(i)(E): One-time | Recordkeeping | 1 | 80 | On Occasion | 80
(CT)—Section _.37(c)(4)(i)(E): Ongoing | Recordkeeping | 3,489 | 16 | On Occasion | 55,824
(SE)—Section _.41(b)(3) and _.41(c)(2)(i): One-time | Recordkeeping | 1 | 40 | On Occasion | 40
(SE)—Section _.41(c)(2)(ii): Ongoing | Recordkeeping | 3,489 | 2 | On Occasion | 6,978
(S.E.)—Section _.42(e)(2), (C.R.) Sections _.62(a), (b), & (c), (Q&Q) Sections_.63(a) & (b): One-time | Disclosure | 1 | 226.25 | On Occasion | 226
(S.E.)—Section _.42(e)(2), (C.R.) Sections _.62(a), (b), & (c), (Q&Q) Sections _.63(a) & (b) and _.63 Tables: Ongoing | Disclosure | 1 | 131.25 | Quarterly | 525
Subtotal: One-time Recordkeeping and Disclosure |  |  |  |  | 348
Subtotal: Ongoing Recordkeeping and Disclosure |  |  |  |  | 70,305
Total Recordkeeping and Disclosure |  |  |  |  | 70,653
Estimated Cost to Respondents Associated With Hourly Burden
Total One-Time Burden Hours |  |  |  |  | 1,136
Total Ongoing Burden Hours |  |  |  |  | 127,004
Total Burden Hours |  |  |  |  | 128,140

General Description of Collection: This collection comprises the disclosure and recordkeeping requirements associated with minimum capital requirements and overall capital adequacy standards for insured state nonmember banks, state savings associations, and certain subsidiaries of those entities. The data is used by the FDIC to evaluate capital before approving various applications by insured depository institutions, to evaluate capital as an essential component in determining safety and soundness, and to determine whether an institution is subject to prompt corrective action provisions.

The annual burden for this information collection remains unchanged and is estimated to be 128,140 hours.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on July 23, 2020.
James P. Sheesley,
Acting Assistant Executive Secretary.

[FR Doc. 2020-16293 Filed 7-27-20; 8:45 am]

BILLING CODE 6714-01-P